DEPARTMENT OF THE INTERIOR

Bureau of Land Management

[ES 910 01-1430-LRTN]

Notice of Intent To Prepare Meadowood Planning Analysis/Environmental Assessment

AGENCY: Bureau of Land Management, Interior.

ACTION: Notice of Intent; correction.

SUMMARY: The Bureau of Land Management published a document in the Federal Register of Tuesday, May 1, 2001 concerning the intent to prepare a planning analysis/environmental assessment on Meadowood Farm in Fairfax County, Virginia. This correction amends the Notice of Intent (NOI) to specify June 27, 2001 as the final date for comments.

FOR FURTHER INFORMATION CONTACT: Horace Traylor at (703) 440-1509.

Correction

In the Federal Register of May 1, 2001, in FR Doc. 01-10750, appearing on page 21779, in the second column, correct the last paragraph to read:

You may also participate by sending issues and/or criteria in writing by June 27, 2001 to the Bureau of Land Management, Eastern States, 7450 Boston Boulevard, Springfield, Virginia 22153. Comments may also be sent electronically to: es_meadowood@es.blm.gov

Dated: May 21, 2001.
Walter Rewinski,
Acting State Director, BLM, Eastern States.

[FR Doc. 01-15702 Filed 6-21-01; 8:45 am]

BILLING CODE 4310-GJ-P